DEPARTMENT OF ENERGY

National Nuclear Security Administration

Proposed Agency Information Collection

AGENCY: National Nuclear Security Administration, Department of Energy.

ACTION: Notice and request for comments.

SUMMARY: The Department of Energy (DOE) invites public comment on a proposed collection of information that DOE is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before September 12, 2011. If you anticipate difficulty in submitting comments within that period, contact the person listed in ADDRESSES as soon as possible.

ADDRESSES: Written comments may be sent to Becky Sipes by e-mail at Becky.Sipes@nnsa.doe.gov or by fax at 505-845-4571.

FOR FURTHER INFORMATION CONTACT: Requests for additional information or copies of the information collection instrument and instructions should be directed to Becky Sipes at Becky.Sipes@nnsa.doe.gov.

SUPPLEMENTARY INFORMATION: This information collection request contains: (1) OMB No. “New;” (2) Information Collection Request Title: NNSA Certificate of Compliance for Radioactive Materials Packages; (3) Type of Request: New; (4) Purpose: This information collection is in support of an NNSA issued Certificate of Compliance (CoC). The CoC documents that NNSA has reviewed and approved a radioactive material package as meeting the applicable safety standards set forth in Title 10, Code of Federal Regulations, Part 71, “Packaging and Transportation of Radioactive Material.” The CoC defines the packaging, radioactive material content, and transportation restrictions required to ensure safe shipment; (5) Annual Estimated Number of Respondents: 50; (6) Annual Estimated Number of Total Responses: 50; (7) Annual Estimated Number of Burden Hours: 150; (8) Annual Estimated Reporting and Recordkeeping Cost Burden: $4,000.

Statutory Authority: DOE Order 460.1C “Packaging and Transportation Safety” DOE Order 461.1B “Packaging and Transportation for Offsite Shipment of Materials of National Security Interest,” Title 10 Code of Federal Regulations Part 71 “Packaging and Transportation of Radioactive Material” and Title 49 Code of Federal Regulations 173.7(d).

Issued in Washington, DC on July 6, 2011.
Ahmad Al-Daouk,
Director, Office of Packaging and Transportation, Office of Nuclear Safety, Nuclear Operations, and Governance Reform, Office of Defense Programs, National Nuclear Security Administration.

[FR Doc. 2011-17656 Filed 7-12-11; 8:45 am]

BILLING CODE 6450-P